DEPARTMENT OF THE INTERIOR

National Park Service

[NPS-WASO-NAGPRA-NPS0030813; PPWOCRADN0-PCU00RP14.R50000]

Notice of Inventory Completion: Michigan State University, East Lansing, MI

AGENCY: National Park Service, Interior.

ACTION: Notice.

SUMMARY: Michigan State University has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Michigan State University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Michigan State University at the address in this notice by October 26, 2020.

ADDRESSES: Judith Stoddart, Associate Provost for University Collections and Arts Initiatives, Michigan State University, 466 W Circle Drive, East Lansing, MI 48824-1044, telephone (517) 432-2524, email stoddart@msu.edu.

SUPPLEMENTARY INFORMATION: Notice is here given in accordance with the Native American Graves Protection and Repatriation Act (NAGPRA), 25 U.S.C. 3003, of the completion of an inventory of human remains and associated funerary objects under the control of Michigan State University, East Lansing, MI. The human remains and associated funerary objects were removed from Levy and Manatee Counties, FL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Michigan State University professional staff in consultation with representatives of the Seminole Tribe of Florida (previously listed as Seminole Tribe of Florida (Dania, Big Cypress, Brighton, Hollywood & Tampa Reservations)) and The Seminole Nation of Oklahoma, hereafter referred to as “The Consulted Tribes.”

An invitation to consult was extended to the Miccosukee Tribe of Indians, hereafter referred to as “The Invited Tribe.”

History and Description of the Remains

In 1965, human remains representing, at minimum, one individual were removed from the Cedar Key State Museum site, Levy County, FL. The human remains (3383.1) were removed by a Mr. Thompson from the grounds of what would become the Cedar Key Museum State Park. Until his death in 1959, this real estate was owned by St. Clair Whitman. His family retained ownership of the property until 1991, when they donated it to the State of Florida. In 1968, Mr. Thompson donated the human remains and a lot of associated funerary items to the Michigan State University Museum. No known individual was identified. The one associated funerary object is a lot of ceramic sherds (3383.2).

On an unknown date, human remains representing, at minimum, one individual were removed from Palma Sola, shell mound cemetery, Manatee County, FL. The human remains (6506 CW) were acquired by Eugene Davis. On an unknown date, Mr. Davis donated the human remains to the Chamberlain Memorial Museum, founded in 1916 by Mr. Edward K. Warren and located in Three Oaks, Michigan. In September of 1952, Michigan State College Museum (now the Michigan State University Museum) acquired the contents of the Chamberlain Memorial Museum from Fred P. Warren, President of the Board of Trustees of the E. K. Warren Foundation. In 2019, the human remains in this notice, which were included in the 1952 acquisition, were discovered in the Michigan State University Forensic Anthropology Laboratory. No known individual was identified. No associated funerary objects are present.

Determinations Made by Michigan State University

Officials of Michigan State University have determined that:

• Pursuant to 25 U.S.C. 3001(9), the human remains described in this notice represent the physical remains of two individuals of Native American ancestry based on biological evidence and museum records.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and The Consulted Tribes and The Invited Tribe, based on archeological evidence, expert opinion, geographical evidence, historical evidence, and oral tradition.

Additional Requestors and Disposition

Lineal descendants or representatives of any Indian Tribe or Native Hawaiian organization not identified in this notice that wish to request transfer of control of these human remains and associated funerary object should submit a written request with information in support of the request to Judith Stoddart, Associate Provost for University Collections and Arts Initiatives, Michigan State University, 466 W Circle Drive, East Lansing, MI 48824-1044, telephone (517) 432-2524, email stoddart@msu.edu, by October 26, 2020. After that date, if no additional requestors have come forward, transfer of control of the human remains and associated funerary object to The Consulted Tribes and The Invited Tribe may proceed.

The Michigan State University is responsible for notifying The Consulted Tribes and The Invited Tribe that this notice has been published.

Dated: August 24, 2020.
Melanie O'Brien,
Manager, National NAGPRA Program.

[FR Doc. 2020-21079 Filed 9-23-20; 8:45 am]

BILLING CODE 4312-52-P